DEPARTMENT OF TRANSPORTATION

Surface Transportation Board

[Docket No. AB 414 (Sub-No. 8X)]

Iowa Interstate Railroad, Ltd.—Abandonment Exemption—in Polk, Jasper, and Marion Counties, Iowa

On May 2, 2014, Iowa Interstate Railroad, Ltd. (IAIS) filed with the Surface Transportation Board (Board) a petition under 49 U.S.C 10502 for exemption from the prior approval requirements of 49 U.S.C 10903 to abandon approximately 10.75 miles of rail line between milepost 145.75 south of Mitchellville to the current end of the track at milepost 135.0 southeast of Prairie City, in Polk and Jasper Counties, Iowa (the Prairie City segment).

In the same petition, IAIS seeks exemption from the prior approval requirements of 49 U.S.C. 10903 to abandon the following two contiguous line segments: (1) Between milepost 135.0 near Prairie City and milepost 123.50 near Otley, a distance of approximately 11.5 miles in Jasper and Marion Counties, Iowa (the Otley segment); and (2) between milepost 123.50 near Otley and milepost 114.80 in Pella, a distance of approximately 8.7 miles in Marion County, Iowa (the Pella segment).¹ Also, IAIS requests that the Pella and Otley segments be exempted from the offer of financial assistance (OFA) provisions of 49 U.S.C. 10904 and the public use provisions at 49 U.S.C.10905. These requests will be addressed in the final Board decision.

¹ The Prairie City, Pella, and Otley segments together are referred to as the Line. IAIS previously obtained Board authorizations to abandon the Pella and Otley segments in 1998 and 2000, respectively. See Iowa Interstate R.R.—Aban. Exemption—in Marion Cnty., Iowa, AB 414 (Sub-No. 2X) (STB served Aug., 11, 1998); Iowa Interstate R.R.—Aban. Exemption—in Marion & Jasper Cntys., Iowa, AB 414 (Sub-No. 3X) (STB served Oct. 20, 2000). However, as stated by IAIS, the abandonments were never consummated.

IAIS asserts that no rail shipments have been handled over the Prairie City segment since January of 2008 and that the last rail movements on the Otley and Pella segments occurred nearly 15 years ago.² IAIS indicates that it salvaged the Pella segment in 1999-2000 and has since “disposed of much of the right-of-way” of that segment, and that the portion of the Pella segment between mileposts 117.68 and 114.80 “was subject to a sale agreement.” As for the Otley segment, IAIS states that a Notice of Interim Trail Use or Abandonment (NITU) was issued and IAIS ultimately transferred approximately 5.6 miles of the right-of-way, between milepost 135.0 and milepost 129.4, to Jasper County “in a transaction plainly intended to be subject to the Trails Act.” According to IAIS, the remainder of the Otley segment “has been disposed of piecemeal outside of the Trails Act,” and salvage of the track and track materials from the Otley segment was completed by early 2002.

² IAIS asserts that, ordinarily, abandonment of the Line would qualify for the two-year out-of-service class exemption at 49 CFR 1152.50, but it is acting via petition for exemption in light of its request for exemption from the OFA and public use provisions for the Pella and Otley segments.

The Line traverses United States Postal Service Zip Codes 50169, 50228, 50170, 50214, and 50219.

IAIS states that, based on information in its possession, the Line does not contain federally granted rights-of-way. Any documentation in IAIS's possession will be made available promptly to those requesting it.

The interest of railroad employees will be protected by the conditions set forth in Oregon Short Line Railroad—Abandonment Portion Goshen Branch Between Firth & Ammon, In Bingham & Bonneville Counties, Idaho, 360 I.C.C. 91 (1979).

By issuance of this notice, the Board is instituting an exemption proceeding pursuant to 49 U.S.C. 10502(b). A final decision will be issued by August 20, 2014.

Any OFA under 49 CFR 1152.27(b)(2) will be due by August 29, 2014, or 10 days after service of a decision granting the petition for exemption, whichever occurs sooner. Each OFA must be accompanied by a $1,600 filing fee. See 49 CFR 1002.2(f)(25).

All interested persons should be aware that, following abandonment of rail service and salvage of the Line, the Line may be suitable for other public use, including interim trail use. Any request for a public use condition under 49 CFR 1152.28 or for interim trail use/rail banking under 49 CFR 1152.29 will be due no later than June 11, 2014. Each trail use request must be accompanied by a $250 filing fee. See 49 CFR 1002.2(f)(27).

All filings in response to this notice must refer to Docket No. AB 414 (Sub-No. 8X) and must be sent to: (1) Surface Transportation Board, 395 E Street SW., Washington, DC 20423-0001; and (2) Thomas J. Litwiler, Fletcher & Sippel LLC, 29 North Wacker Drive, Suite 920, Chicago, IL 60606. Replies to the petition are due on or before June 11, 2014.

Persons seeking further information concerning abandonment procedures may contact the Board's Office of Public Assistance, Governmental Affairs and Compliance at (202) 245-0238 or refer to the full abandonment regulations at 49 CFR part 1152. Questions concerning environmental issues may be directed to the Board's Office of Environmental Analysis (OEA) at (202) 245-0305. [Assistance for the hearing impaired is available through the Federal Information Relay Service (FIRS) at 1-800-877-8339.]

An environmental assessment (EA) (or environmental impact statement (EIS), if necessary) prepared by OEA will be served upon all parties of record and upon any agencies or other persons who commented during its preparation. Other interested persons may contact OEA to obtain a copy of the EA (or EIS). EAs in abandonment proceedings normally will be made available within 60 days of the filing of the petition. The deadline for submission of comments on the EA generally will be within 30 days of its service.

Board decisions and notices are available on our Web site at www.stb.dot.gov.

Decided: May 19, 2014.
By the Board, Rachel D. Campbell, Director, Office of Proceedings.
Derrick A. Gardner,
Clearance Clerk.

[FR Doc. 2014-11854 Filed 5-21-14; 8:45 am]

BILLING CODE 4915-01-P